DEPARTMENT OF THE INTERIOR

Bureau of Reclamation

Central Valley Project Improvement Act, Westlands Water District Drainage Repayment Contract

AGENCY: Bureau of Reclamation, Interior.

ACTION: Notice of Proposed Repayment Contract.

SUMMARY: The Bureau of Reclamation will be initiating negotiations with the Westlands Water District (District) of California to negotiate and execute a long term repayment contract to provide for the terms and conditions for reimbursement of costs related to the construction of drainage facilities within the District. This action is being undertaken to satisfy the federal government obligation to provide drainage service to the District located within the San Luis Unit of the Central Valley Project in California.

FOR FURTHER INFORMATION CONTACT: Ms. Angela Slaughter, Bureau of Reclamation, 2800 Cottage Way, Sacramento, California 95825; telephone 916-978-5250 (TTY 800-735-2929); or e-mail: aslaughter@mp.usbr.gov.

Dated: March 16, 2010.
Richard J. Wodley,
Regional Resources Manager, Mid-Pacific Region, Bureau of Reclamation.

[FR Doc. 2010-6740 Filed 3-26-10; 8:45 am]

BILLING CODE 4310-MN-M